DEPARTMENT OF COMMERCE

Economic Development Administration

Notice of Petitions by Producing Firms for Determination of Eligibility To Apply for Trade Adjustment Assistance

AGENCY: Economic Development Administration (EDA), DOC.

ACTION: To give firms an opportunity to comment.

Petitions have been accepted for filing on the dates indicated from the firms listed below.

List of Petition Action By Trade Adjustment Assistance For Period 03/16/2000-04/14/2000
Firm name | Address | Date petition accepted | Product
Southern Glove Mfg. Co., Inc | P.O. Box 579, Conover, NC 38613 | 21-Mar-2000 | Knitted industrial work gloves.
Precision Plus, Inc | 1056-M Pine Island Road, Cape Coral, FL 33909 | 21-Mar-2000 | Rivets, screws and connectors.
Environmental Technologies, Inc | 219 Frontage Road North, Pacifica, WA 98047 | 22-Mar-2000 | Vacuum fish and centrifugal pumps and parts.
SIFCO Industries, Inc | 970 East 64th Street, Cleveland, OH 44103 | 27-Mar-2000 | Metal discs, actuators, gears and housings for hydraulic engine systems.
Aly-wear, Inc | 400 West Main Street, Ephrata, PA 17522 | 28-Mar-2000 | Ladies dresses and ensembles.
McArthur Industries, Inc. dba Cohn Athletic Service Co | 10500 Kahlmeyer Drive, St. Louis, MO 63132 | 28-Mar-2000 | Athletic team jerseys, shorts and safety equipment.
Gichner Shelter Systems | 490 East Locust Street, Dallastown, PA 17313 | 03-Apr-2000 | Metal shelters to house communication equipment for government and commercial use.
Catamount Pellet Fuel Corporation | 60 Printworks Drive, Adams, MA 01220 | 31-Mar-2000 | Wood pellets for use in residential heating units.
Pittsfield Weaving Company, Inc | 1 Fayette Street, Pittsfield, NH 03263 | 31-Mar-2000 | Woven labels and tags.
Shenango Industries, Inc | 1200 College Avenue, Terre Haute, IN 47802 | 31-Mar-2000 | Large diameter, metal and steel, seamless tubes.
Coulter Steel & Forge Co | P.O. Box 8008, Emeryville, CA 94662 | 03-Apr-2000 | Nuclear reactor and fluid power pump parts.
Aro-Sac, Inc | 1 Warren Avenue, North Providence, RI 02911 | 03-Apr-2000 | Earring clips, posts and pads.
Newman Flange & Fitting Co | P.O. Box 905, Newman, CA 95360 | 03-Apr-2000 | Flanges of titanium, stainless steel and aluminum.
M.G.M. Apparel, Inc | 1560 San Fernanco Road, Los Angeles, CA 90065 | 03-Apr-2000 | Women casual tops, pants and skirts of cotton.
Lorrich Industries, Inc | 9265 State Highway 89, Cavalier, ND 58220 | 03-Apr-2000 | Bins and hoppers used for agricultural or horticultural purposes.
Cobra Specialty Products, Inc | 4112 North Main, Hwy 174S, Joshua, Texas 76058 | 04-Apr-2000 | Wood cabinets and children's furniture and toys.
Thompson Dental Manufacturing Company, Inc | 1201 South 6th West, Missoula, MT 59801 | 05-Apr-2000 | Dental hand instruments.
Philadelphia Cervical Collar Company | I-295 Industrial Center, Westville, NJ 08093 | 11-Apr-2000 | Post surgery cervical and emergency medical extrication collars.
Fitchburg Pattern and Model Co., Inc | 21 Myrtle Avenue, Fitchburg, MA 01420 | 14-Apr-2000 | Patterns and molds for the casting industry.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.
Dated: April 19, 2000.
Anthony J. Meyer,
Coordinator, Trade Adjustment and Technical Assistance.

[FR Doc. 00-10236 Filed 4-24-00; 8:45 am]

BILLING CODE 3510-24-U